DEPARTMENT OF HOUSING AND URBAN DEVELOPMENT

[Docket No. FR-4901-N-44]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Audrey C. Ormerod, Headquarters, Department of the Army, Office of the Assistant Chief of Staff for Installation Management, Attn: DAIM-MD, 600 Army Pentagon, Washington, DC 20310-0600; (703) 601-2520; Energy: Mr. Andy Duran, Department of Energy, Office of Engineering & Construction Management, ME-90, 1000 Independence Ave., SW., Washington, DC 20585: (202) 586-4548; GSA: Mr. Brian K. Polly, Assistant Commissioner, General Services Administration, Office of Property Disposal, 18th and F Streets, NW., Washington, DC 20405; (202) 501-0084; Navy: Mr. Charles C. Cocks, Department of the Navy, Real Estate Policy Division, Naval Facilities Engineering Command, Washington Navy Yard, 1322 Patterson Ave., SE., Suite 1000, Washington, DC 20374-5065; (202) 685-9200; (These are not toll-free numbers).

Dated: October 21, 2004.
Mark R. Johnston,
Director, Office of Special Needs, Assistance Programs.

Title V, Federal Surplus Property Program Federal Register Report for 10/29/2004

Suitable/Available Properties

Buildings (by State)

Oklahoma

Federal Building

207 North 4th

Hugo Co: Choctaw OK 74743-3817

Landholding Agency: GSA

Property Number: 52400440004

Status: Excess

Comment: 16, 484 sq. ft., most recent use—office, U.S. Postal Service will vacate FY2006

GSA Number: 7-G-OK-0569

Social Security Admin.

216 SW First Street

Ardmore Co: Carter OK 73401-

Landholding Agency: GSA

Property Number: 54200440005

Status: Surplus

Comment: 5284 sq. ft., most recent use—office

GSA Number: 7-G-OK-0556

Texas

Social Security Admin.

810 Travis Street

Sherman Co: Grayson TX 75090-

Landholding Agency: GSA

Property Number: 54200440006

Status: Surplus

Comment: 5623 sq. ft., most recent use—office will be vacate FY2005

GSA Number: 7-G-TX-1074

Suitable/Unavailable Properties

Buildings (by State)

Georgia

East Parcel

Boyett Village Family

Housing Complex

Maple Avenue

Albany GA

Location: republished

Landholding Agency: GSA

Property Number: 54200410003

Status: Surplus

Comment: 119 residential units & support facilities, possible lead based paint, utility upgrade required by local utility commission (estimates range from $1.6m to $2.7 million for entire Boyett Village)

GSA Number: 4-N-GA-581B

Hawaii

Bldg. 1142

Naval Air Station

Kalaeloa Co: HI 86707-

Landholding Agency: Navy

Property Number: 21200440001

Status: Unutilized

Comment: 29657 sq. ft., most recent use—office/storage

Unsuitable Properties

Buildings (by State)

Alabama

Bldg. 05296

Redstone Arsenal

Madison Co: AL 35898-5000

Landholding Agency: Army

Property Number: 21200440001

Status: Unutilized

Reasons: Secured area, extensive deterioration

Bldg. 311

Fort Rucker

Ft. Rucker Co: Dale AL 36362-

Landholding Agency: Army

Property Number: 21200440002

Status: Unutilized

Reasons: Extensive deterioration

Bldg. 1011

Fort Rucker

Ft. Rucker Co: Dale AL 36362-

Landholding Agency: Army

Property Number: 21200440003

Status: Unutilized

Reasons: Extensive deterioration

Bldg. 7204

Fort Rucker

Ft. Rucker Co: Dale AL 36362-

Landholding Agency: Army

Property Number: 21200440004

Status: Unutilized

Reasons: Extensive deterioration

Bldg. 40114

Fort Rucker

Ft. Rucker Co: Dale AL 36362-

Landholding Agency:

Property Number: 21200440005

Status: Unutilized

Reasons: Extensive deterioration

California

Bldgs. 905, 910, 911

Fort Hunter Liggett

Jolon Co: Monterey CA 93928-

Landholding Agency: Army

Property Number: 21200440006

Status: Unutilized

Reasons: Extensive deterioration

Bldgs. 924, 931, 940

Fort Hunter Liggett

Jolon Co: Monterey CA 93928-

Landholding Agency:

Property Number: 21200440007

Status: Unutilized

Reasons: Extensive deterioration

Bldg. 00636

Parks Reserve Forces

Dublin Co: Alameda CA 94568-

Landholding Agency: Army

Property Number: 21200440008

Status: Unutilized

Reasons: Extensive deterioration

Georgia

Bldg. 09226

Fort Benning

Ft. Benning Co: Chattachoochee GA 31905-

Landholding Agency: Army

Property Number: 21200440009

Status: Unutilized

Reasons: Extensive deterioration

7 Bldgs.

Fort Gordon

Ft. Gordon Co: Richmond GA 30905-

Location: OT001, 003, 004, 007, 009, 017, 029

Landholding Agency: Army

Property Number: 21200440010

Status: Unutilized

Reason: Extensive deterioration

Bldgs. 02404, 02408

Fort Gordon

Ft. Gordon Co: Richmond GA 30905-

Landholding Agency: Army

Property Number: 21200440011

Status: Unutilized

Reason: Extensive deterioration

Bldgs. 21802 thru 21807

Fort Gordon

Ft. Gordon Co: Richmond GA 30905-

Landholding Agency: Army

Property Number: 21200440012

Status: Unutilized

Reason: Extensive deterioration

Bldgs. 33513, 39105, 39114

Fort Gordon

Ft. Gordon Co: Richmond GA 30905-

Landholding Agency: Army

Property Number: 21200440013

Status: Unutilized

Reason: Extensive deterioration

Bldgs. 81102

Fort Gordon

Ft. Gordon Co: Richmond GA 30905-

Landholding Agency: Army

Property Number: 21200440014

Status: Unutilized

Reason: Extensive deterioration

Hawaii

71 Tunnels

Aliamanu

Honolulu Co: HI 96818-

Landholding Agency: Army

Property Number: 21200440015

Status: Unutilized

Reason: Contamination

10 Tunnels

Aliamanu

Honolulu Co: HI 96818-

Landholding Agency: Army

Property Number: 21200440016

Status: Unutilized

Reason: Contamination

49 Tunnels

Aliamanu

Honolulu Co: HI 96818-

Landholding Agency: Army

Property Number: 21200440017

Status: Unutilized

Reason: Contamination

Indiana

Bldgs. 0308A

Newport Chemical Depot

Newport Co: Vermillion IN 47966-

Landholding Agency: Army

Property Number: 21200440019

Status: Excess

Reason: Secured area

Iowa

Bldgs. 00677, 00671

Iowa Army Ammo Plant

Middletown Co: Des Moines IA 52601-

Landholding Agency: Army

Property Number: 21200440018

Status: Excess

Reason: Secured area

Kansas

Bldgs. 450, 474

Fort Leavenworth

Leavenworth Co: KS 66027-

Landholding Agency: Army

Property Number: 21200440020

Status: Unutilized

Reason: Extensive deterioration

4 Bldgs.

Fort Leavenworth

1811, 1812, 1816, 1817

Leavenworth Co: KS 66027-

Landholding Agency: Army

Property Number: 21200440021

Status: Unutilized

Reason: Extensive deterioration

4 Bldgs.

Fort Leavenworth

1813, 1814, 1815, 1818

Leavenworth Co: KS 66027-

Landholding Agency: Army

Property Number: 21200440022

Status: Unutilized

Reason: Extensive deterioration

4 Bldgs.

1819, 1820, 1822, 1826

Fort Leavenworth

Leavenworth Co: KS 66027-

Landholding Agency: Army

Property Number: 21200440023

Status: Unutilized

Reason: Extensive deterioration

5 Bldgs.

Fort Leavenworth

1821, 1823-1825, 1827

Leavenworth Co: KS 66027-

Landholding Agency: Army

Property Number: 21200440024

Status: Unutilized

Reason: Extensive deterioration

Kentucky

4 Bldgs.

Fort Knox

02015, 02426, 06099, 09614

Hardin Co: KY 40121-

Landholding Agency: Army

Property Number: 21200440025

Status: Unutilized

Reason: Extensive deterioration

Bldg. 07738

Fort Knox

Hardin Co: KY 40121-

Landholding Agency: Army

Property Number: 21200440026

Status: Unutilized

Reason: Extensive deterioration

Maryland

Bldg. 00664

Aberdeen Proving Grounds

Aberdeen Co: Harford MD 21005-

Landholding Agency: Army

Property Number: 21200440027

Status: Unutilized

Reason: Extensive deterioration

Bldg. 02040

Aberdeen Proving Grounds

Aberdeen Co: Harford MD 21005-

Landholding Agency: Army

Property Number: 21200440028

Status: Unutilized

Reason: Extensive deterioration

Bldg. E3526

Aberdeen Proving Grounds

Aberdeen Co: Harford MD 21005-

Landholding Agency: Army

Property Number: 21200440029

Status: Unutilized

Reason: Extensive deterioration

Bldg. 03854

Aberdeen Proving Grounds

Aberdeen Co: Harford MD 21005-

Landholding Agency: Army

Property Number: 21200440030

Status: Unutilized

Reason: Extensive deterioration

Michigan

Bldg. 00714

Selfridge Air Natl Guard Base

Macomb Co: MI 48045-

Landholding Agency: Army

Property Number: 21200440032

Status: Unutilized

Reason: Extensive deterioration

New Jersey

Bldg. 00202

Fort Monmouth

Monmouth Co: NJ 07703-

Landholding Agency: Army

Property Number: 21200440033

Status: Unutilized

Reason: Extensive deterioration

New Mexico

31 Bldgs.

White Sands Missile Range

Dona Ana Co: NM 88002-

Landholding Agency: Army

Property Number: 21200440034

Status: Excess

Reason: Extensive deterioration

7 Bldgs.

White Sands Missile Range

Dona Ana Co: NM 88002-

Location: 908, 910, 928, 930, 932, 934, 936

Landholding Agency: Army

Property Number: 21200440035

Status: Excess

Reason: Extensive deterioration

18 Bldgs.

White Sands Missile Range

Dona Ana Co: NM 88002-

Location: 10042-10046, 10050-10052, 10054-10055, 10060-10061, 10064-10065, 10068-10069, 10041, 10101

Landholding Agency: Army

Property Number: 21200440036

Status: Excess

Reason: Extensive deterioration

12 Bldgs.

White Sands Missile Range

Dona Ana Co: NM 88002-

Location: 10122, 10132, 10134, 10150, 10152, 10170, 10172, 10200, 10202, 10100, 10102, 10120

Landholding Agency: Army

Property Number: 21200440037

Status: Excess

Reason: Extensive deterioration

4 Bldgs.

White Sands Missile Range

Dona Ana Co: NM 88002-

Location: 10230, 10231, 10232, 10233

Landholding Agency: Army

Property Number: 21200440038

Status: Excess

Reason: Extensive deterioration

34 Bldgs.

White Sands Missile Range

Dona Ana Co: NM 88002-

Landholding Agency: Army

Property Number: 21200440039

Status: Excess

Reason: Extensive deterioration

9 Bldgs.

White Sands Missile Range

Dona Ana Co: NM 88002-

Location: 11103, 11109, 11119, 11123, 11127, 11135, 11143, 11172, 11175

Landholding Agency: Army

Property Number: 21200440040

Status: Excess

Reason: Extensive deterioration

6 Bldgs.

White Sands Missile Range

Dona Ana Co: NM 88002-

Location: 11104, 11116, 11128, 11155, 11151, 11159

Landholding Agency: Army

Property Number: 21200440041

Status: Excess

Reason: Extensive deterioration

28 Bldgs.

White Sands Missile Range

Dona Ana Co: NM 88002-

Landholding Agency: Army

Property Number: 21200440042

Status: Excess

Reason: Extensive deterioration

6 Bldgs.

White Sands Missile Range

Dona Ana Co: NM 88002-

Location: 12210, 12212, 12214, 12216, 12218, 12228

Landholding Agency: Army

Property Number: 21200440043

Status: Excess

Reason: Extensive deterioration

8 Bldgs.

White Sands Missile Range

Dona Ana Co: NM 88002-

Location: 12229, 12242, 12243, 12245, 12246, 12230, 12241, 12244

Landholding Agency: Army

Property Number: 21200440044

Status: Excess

Reason: Extensive deterioration

Bldg. 31010

White Sands Missile Range

Dona Ana Co: NM 88002-

Landholding Agency: Army

Property Number: 21200440045

Status: Excess

Reason: Extensive deterioration

New York

Bldgs. 629, 2041, 2215

Fort Drum

Jefferson Co: NY 13602-

Landholding Agency: Army

Property Number: 21200440046

Status: Unutilized

Reason: Extensive deterioration

North Carolina

3 Bldgs.

Fort Bragg

Cumberland Co: NC 28310-

Location: A3968, A3969, A4650

Landholding Agency: Army

Property Number: 21200440047

Status: Unutilized

Reason: Extensive deterioration

4 Bldgs.

Fort Bragg

Cumberland Co: NC 28310-

Location: D2420, D2617, D2822, D2826

Landholding Agency: Army

Property Number: 21200440048

Status: Unutilized

Reason: Extensive deterioration

5 Bldgs.

Fort Bragg

Cumberland Co: NC 28310-

Location: H4583, H4584, H4586, H4786, H5082

Landholding Agency: Army

Property Number: 21200440049

Status: Unutilized

Reason: Extensive deterioration

Bldgs. 09039, 09134

Fort Bragg

Cumberland Co: NC 28310-

Landholding Agency: Army

Property Number: 21200440050

Status: Unutilized

Reason: Extensive deterioration

Bldgs. P4443, P4544

Fort Bragg

Cumberland Co: NC 28310-

Landholding Agency: Army

Property Number: 21200440051

Status: Unutilized

Reason: Extensive deterioration

Oklahoma

Bldgs. MA050, MA070

Regional Training Institute

Oklahoma City Co: OK 73111-

Landholding Agency: Army

Property Number: 21200440052

Status: Unutilized

Reason: Extensive deterioration

Pennsylvania

Bldgs. 01003, 01011, 01012

Tobyhanna Army Depot

Monroe Co: PA 18466-

Landholding Agency: Army

Property Number: 21200440053

Status: Unutilized

Reason: Extensive deterioration

Bldgs. 01023-01024

Tobyhanna Army Depot

Monroe Co: PA 18466-

Landholding Agency: Army

Property Number: 21200440054

Status: Unutilized

Reason: Extensive deterioration

Bldgs. 00035, 00045

Carlisle Barracks

Cumberland Co: PA 17013-

Landholding Agency: Army

Property Number: 21200440055

Status: Excess

Reason: Extensive deterioration

Bldgs. 00317, 00608

Carlisle Barracks

Cumberland Co: PA 17013-

Landholding Agency: Army

Property Number: 21200440056

Status: Excess

Reason: Extensive deterioration

South Carolina

Bldg. 122-R

Savannah River Site

Aiken Co: SC 29802-

Landholding Agency: Energy

Property Number: 412200440009

Status: Unutilized

Reason: Secured area

Bldg. 151-2R

Savannah River Site

Aiken Co: SC 29802-

Landholding Agency: Energy

Property Number: 412200440010

Status: Unutilized

Reason: Secured area

Bldg. 740-001A

Savannah River Site

Aiken Co: SC 29802-

Landholding Agency: Energy

Property Number: 412200440011

Status: Unutilized

Reason: Secured area

Tennessee

Bldgs. 2440, 2632, 2640

Fort Campbell

Montgomery Co: TN 42223-

Landholding Agency: Army

Property Number: 21200440057

Status: Unutilized

Reason: Extensive deterioration

Bldg. 75011

Fort Campbell

Montgomery Co: TN 42223-

Landholding Agency: Army

Property Number: 21200440058

Status: Unutilized

Reason: Extensive deterioration

31 Bldgs.

Milan Army Ammo Plant

Q0001-Q00029, Q0031-Q0032

Carroll Co: TN 38358-

Landholding Agency: Army

Property Number: 21200440059

Status: Excess

Reason: Extensive deterioration

Bldgs. Q0033-Q0053

Milan Army Ammo Plant

Carroll Co: TN 38358-

Landholding Agency: Army

Property Number: 21200440060

Status: Excess

Reason: Extensive deterioration

Bldgs. Q0060-Q0061

Milan Army Ammo Plant

Carroll Co: TN 38358-

Landholding Agency: Army

Property Number: 21200440061

Status: Excess

Reason: Extensive deterioration

Bldg. J0105

Milan Army Ammo Plant

Carroll Co: TN 38358-

Landholding Agency: Army

Property Number: 21200440062

Status: Excess

Reason: Extensive deterioration

Utah

Bldgs. 3000 thru 3011

Tooele Army Depot

Tooele Co: UT 84074-

Landholding Agency: Army

Property Number: 21200440063

Status: Unutilized

Reason: Secured area

12 Bldgs.

Tooele Army Depot

Tooele Co: UT 84074-

Landholding Agency: Army

Property Number: 21200440064

Status: Unutilized

Reason: Secured area

Bldg. 01237

Tooele Army Depot

Tooele Co: UT 84074-

Landholding Agency: Army

Property Number: 21200440065

Status: Unutilized

Reason: Secured area

Land (by State)

Maryland

15 acres

Ft. Meade

Ft. Meade Co: MD 20755-5115

Landholding Agency: Army

Property Number: 21200440031

Status: Unutilized

Reason: Secured area

[FR Doc. 04-24048 Filed 10-28-04; 8:45 am]

BILLING CODE 4210-29-M